DEPARTMENT OF COMMERCE

Foreign-Trade Zones Board

[Docket 4-2010]

Foreign-Trade Zone 113—Ellis County, TX Application for Reorganization Under Alternative Site Framework

An application has been submitted to the Foreign-Trade Zones (FTZ) Board (the Board) by Ellis County Trade Zone Corporation (formerly Midlothian Trade Zone Corporation), grantee of FTZ 113, requesting authority to reorganize the zone under the alternative site framework (ASF) adopted by the Board (74 FR 1170, 01/12/09; correction 74 FR 3987, 01/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR Part 400). It was formally filed on January 14, 2010.

The grantee's proposed service area under the ASF would be Ellis County, Texas. If approved, the grantee would be able to serve sites throughout the service area based on companies' needs for FTZ designation. The proposed service area is adjacent to the Dallas-Fort Worth Customs and Border Protection port of entry.

FTZ 113 was approved by the FTZ Board on December 21, 1984 (Board Order 283, 50 FR 300, 1/2/85). The applicant is requesting to include the following current site in the reorganized zone as a “magnet” site: Proposed Site 1 (551 acres)—MidTexas International Center, 1500 North Service Road, U.S. Highway 67, Midlothian. The applicant proposes that Site 1 be exempt from “sunset” time limits that otherwise apply to sites under the ASF. No usage-driven sites are being proposed at this time.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is March 23, 2010 Rebuttal comments in response to material submitted during the foregoing period may be submitted during the subsequent 15-day period (to April 7, 2010).

A copy of the application will be available for public inspection at the Office of the Executive Secretary, Foreign-Trade Zones Board, Room 2111, U.S. Department of Commerce, 1401 Constitution Avenue, NW., via www.trade.gov/ftz. For further information, contact Camille Evans at Washington, DC 20230-0002, and in the “Reading Room” section of the Board's Web site, which is accessible Camille.Evans@trade.gov or (202)482-2350.

Dated: January 14, 2010.
Andrew McGilvray,
Executive Secretary.

[FR Doc. 2010-1241 Filed 1-21-10; 8:45 am]

BILLING CODE 3510-DS-P